DEPARTMENT OF TRANSPORTATION

Federal Aviation Administration

14 CFR Part 39

[Docket No. FAA-2021-0559; Project Identifier MCAI-2021-00079-R]

RIN 2120-AA64

Airworthiness Directives; Airbus Helicopters

AGENCY: Federal Aviation Administration (FAA), DOT.

ACTION: Notice of proposed rulemaking (NPRM).

SUMMARY: The FAA proposes to supersede airworthiness directive (AD) 2020-24-03 which applies to certain Airbus Helicopters Model AS350B, AS350BA, AS350B1, AS350B2, AS350D, AS355E, AS355F, AS355F1, and AS355F2 helicopters. AD 2020-24-03 requires testing the UP/DOWN switches of a certain part-numbered DUNLOP cyclic stick grip, installing a placard, and revising the existing Rotorcraft Flight Manual (RFM) for your helicopter, or removing the DUNLOP cyclic stick grip. Since the FAA issued AD 2020-24-03, Airbus Helicopters developed a modification procedure for the electrical wiring of the hoist control of the DUNLOP cyclic stick grip. This proposed AD would retain some requirements of AD 2020-24-03 and would also require incorporating the new modification, and removing the placard and the RFM amendment installed previously as required by AD 2020-24-03. The proposed additional actions would be required as specified in a European Union Aviation Safety Agency (EASA) AD, which is proposed for incorporation by reference (IBR). The FAA is proposing this AD to address the unsafe condition on these products.

DATES: The FAA must receive comments on this proposed AD by August 26, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material that is proposed for IBR in this AD, contact the EASA, Konrad-Adenauer-Ufer 3, 50668 Cologne, Germany; telephone +49 221 8999 000; email ADs@easa.europa.eu; internet www.easa.europa.eu. You may find this IBR material on the EASA website at https://ad.easa.europa.eu. You may view this material at the FAA, Office of the Regional Counsel, Southwest Region, 10101 Hillwood Pkwy., Room 6N-321, Fort Worth, TX 76177. For information on the availability of this material at the FAA, call (817) 222-5110. It is also available in the AD docket on the internet at https://www.regulations.gov by searching for and locating Docket No. FAA-2021-0559.

Examining the AD Docket

You may examine the AD docket on the internet at https://www.regulations.gov by searching for and locating Docket No. FAA-2021-0559; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Daniel Poblete, Aerospace Engineer, Systems & Equipment Section, Los Angeles ACO Branch, Compliance & Airworthiness Division, 3960 Paramount Blvd., Lakewood, CA 90712; telephone (562) 627-5335; email: daniel.d.poblete@faa.gov.

SUPPLEMENTARY INFORMATION:

Comments Invited

The FAA invites you to send any written relevant data, views, or arguments about this proposal. Send your comments to an address listed under ADDRESSES. Include “Docket No. FAA-2021-0559; Project Identifier MCAI-2021-00079-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Daniel Poblete, Aerospace Engineer, Systems & Equipment Section, Los Angeles ACO Branch, Compliance & Airworthiness Division, 3960 Paramount Blvd., Lakewood, CA 90712; telephone (562) 627-5335; email: daniel.d.poblete@faa.gov. Any commentary that the FAA receives that is not specifically designated as CBI will be placed in the public docket for this rulemaking.

Background

The FAA issued AD 2020-24-03, Amendment 39-21333 (85 FR 76955, December 1, 2020), (AD 2020-24-03), which applies to Airbus Helicopters Model AS350B, AS350BA, AS350B1, AS350B2, AS350D, AS355E, AS355F, AS355F1, and AS355F2 helicopters with DUNLOP cyclic stick grip manufacturer part number (MP/N) AC66444 with UP/DOWN switches for rescue hoist control installed. AD 2020-24-03 requires accomplishing a ground test of the UP/DOWN switches of DUNLOP cyclic stick grip for proper function before each hoist operation. If there is any uncommanded hoist action, AD 2020-24-03 requires removing the DUNLOP cyclic stick grip from service. If DUNLOP cyclic stick grip MP/N AC66444 is installed, before the next operation, AD 2020-24-03 also requires installing a placard and revising the existing RFM for your helicopter to prohibit the use of the UP/DOWN switches of the DUNLOP cyclic stick grip. Alternatively, AD 2020-24-03 allows removing DUNLOP cyclic stick grip MP/N AC66444, however before the DUNLOP cyclic stick grip is re-installed, AD 2020-24-03 requires accomplishing a ground test of the UP/DOWN switches and installing the placard and revising the existing RFM for your helicopter. AD 2020-24-03 also prohibits installing an affected DUNLOP cyclic stick grip unless the ground testing of the UP/DOWN switches has been accomplished, the placard has been installed, and the existing RFM for your helicopter has been revised. The FAA issued AD 2020-24-03 to prevent an inadvertent activation of the rescue hoist cable cutter and consequent detachment of an external load or person from the helicopter hoist. This unsafe condition could result in personal injury or injury to persons on the ground.

Actions Since AD 2020-24-03 Was Issued

Since the FAA issued AD 2020-24-03, Airbus Helicopters developed a modification (MOD) MC20096 and issued service information that provides instructions for modifying the electrical wiring of the hoist control on DUNLOP cyclic stick grips.

EASA, which is the Technical Agent for the Member States of the European Union, has issued EASA AD 2021-0023, dated January 19, 2021 (EASA AD 2021-0023) to correct an unsafe condition for Airbus Helicopters Model AS 350 and AS 355 helicopters.

This proposed AD was prompted by Airbus Helicopters developing MOD MC20096 and Airbus Helicopters issuing service information for performing this modification on the DUNLOP cyclic stick. The FAA is proposing this AD to address inadvertent activation of the rescue hoist cable cutter function and consequent detachment of an external load or person from the helicopter hoist, possibly resulting in personal injury, or injury to persons on the ground. See EASA AD 2021-0023 for additional background information.

Related Service Information Under 1 CFR Part 51

EASA AD 2021-0023 specifies procedures for installing the placard and revising the Flight Manual to prohibit the use of the UP/DOWN switches of the DUNLOP cyclic stick MP/N AC66444. EASA AD 2021-0023 also specifies procedures for modifying the electrical wiring of the DUNLOP cyclic stick and removing both the placard and RFM amendment previously installed.

This material is reasonably available because the interested parties have access to it through their normal course of business or by the means identified in the ADDRESSES section.

FAA's Determination and Requirements of This Proposed AD

These helicopters have been approved by the aviation authority of another country, and are approved for operation in the United States. Pursuant to the bilateral agreement with the State of Design Authority, the FAA has been notified of the unsafe condition described in the EASA AD referenced above. The FAA is proposing this AD after evaluating all the relevant information and determining the unsafe condition described previously is likely to exist or develop in other products of these same type designs.

Explanation of Retained Requirements

Although this proposed AD does not explicitly restate the requirements of AD 2020-24-03, this proposed AD would retain certain requirements of AD 2020-24-03. Those requirements are referenced in EASA AD 2021-0023, which, in turn, is referenced in paragraph (g) of this proposed AD.

Proposed AD Requirements

This proposed AD would require accomplishing the actions specified in EASA AD 2021-0023 described previously, as incorporated by reference, except for any differences identified as exceptions in the regulatory text of this proposed AD and except as discussed under “Differences Between this Proposed AD and EASA AD 2021-0023.”

Explanation of Required Compliance Information

In the FAA's ongoing efforts to improve the efficiency of the AD process, the FAA developed a process to use certain civil aviation authority (CAA) ADs as the primary source of information for compliance with requirements for corresponding FAA ADs. The FAA has been coordinating this process with manufacturers and CAAs. As a result, EASA AD 2021-0023 will be incorporated by reference in the FAA final rule. This proposed AD would, therefore, require compliance with EASA AD 2021-0023 in its entirety, through that incorporation, except for any differences identified as exceptions in the regulatory text of this proposed AD. Using common terms that are the same as the heading of a particular section in EASA AD 2021-0023 does not mean that operators need comply only with that section. For example, where the AD requirement refers to “all required actions and compliance times,” compliance with this AD requirement is not limited to the section titled “Required Action(s) and Compliance Time(s)” in EASA AD 2021-0023. Service information specified in EASA AD 2021-0023 that is required for compliance with it will be available at https://www.regulations.gov by searching for and locating Docket No. FAA-2021-0559 after the FAA final rule is published.

Differences Between This Proposed AD and EASA AD 2021-0023

For helicopters with DUNLOP cyclic stick grip MP/N AC66444 with UP/DOWN switches for rescue hoist control installed, this proposed AD would require accomplishing a ground test of the UP/DOWN switches for proper function before each hoist operation, whereas the EASA AD does not. Where EASA AD 2021-0023 refers to its effective date or the effective date of EASA Emergency AD 2020-0217-E, dated October 8, 2020, this proposed AD would require using the effective date of this AD. Where the service information referenced in EASA AD 2021-0023 specifies “work must be performed on the helicopter by the operator,” this proposed AD would require that the work be accomplished by a mechanic that meets the requirements of 14 CFR part 65 subpart D. Where the service information referenced in EASA AD 2021-0023 specifies to discard certain placards and Flight Manual pages (that were required by EASA AD 2020-0217-E), this proposed AD would require removing them instead. EASA AD 2021-0023 requires operators to “inform all flight crews” and thereafter to “operate the helicopter accordingly.” However, this proposed AD would not require those actions. Where paragraph (4) of EASA AD 2020-0023 allows modifying a Group 2 helicopter into a Group 1 helicopter, this proposed AD would also require accomplishing the requirements of paragraph (g)(1) of this AD. Finally, the service information referenced in EASA AD 2021-0023 requires reporting certain information, whereas this proposed AD would not.

Costs of Compliance

The FAA estimates that this proposed AD would affect 390 helicopters of U.S. Registry. The FAA estimates that operators may incur the following costs in order to comply with this proposed AD. Labor costs are estimated at $85 per work-hour.

Accomplishing a ground test of the UP/DOWN switches for proper function takes a minimal amount of time for a nominal cost. Replacing a DUNLOP cyclic stick grip, if required, takes about 2.5 work-hours and parts cost about $2,500 for an estimated cost of $2,713. Installing the placard and revising the existing RFM for your helicopter would take about 0.5 work-hour for an estimated cost of $43 per helicopter and $16,770 for the U.S. fleet.

Modifying the electrical wiring of the DUNLOP cyclic stick would take up to 4 work-hours and parts would cost $2,147 for an estimated cost of up to $2,487 per helicopter and $969,930 for the U.S. fleet. Removing the placard and revising the existing RFM for your helicopter would take about 0.5 work-hour for an estimated cost of $43 per helicopter and $16,770 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-24-03, Amendment 39-21333 (85 FR 76955, December 1, 2020); and

b. Adding the following new AD:

Airbus Helicopters: Docket No. FAA-2021-0559; Project Identifier MCAI-2021-00079-R.

(a) Comments Due Date

The FAA must receive comments on this airworthiness directive (AD) by August 26, 2021.

(b) Affected ADs

This AD replaces AD 2020-24-03, Amendment 39-21333 (85 FR 76955, December 1, 2020) (AD 2020-24-03).

(c) Applicability

This AD applies to Airbus Helicopters Model AS350B, AS350BA, AS350B1, AS350B2, AS350D, AS355E, AS355F, AS355F1, and AS355F2 helicopters, certificated in any category, as identified in European Union Aviation Safety Agency (EASA) AD 2021-0023, dated January 19, 2021 (EASA AD 2021-0023).

(d) Subject

Joint Aircraft System Component (JASC) Code 2500, Cabin Equipment/Furnishings.

(e) Unsafe Condition

This AD was prompted by the development of a modification of the electrical wiring of the hoist control on the DUNLOP cyclic stick grip. The FAA is issuing this AD to prevent inadvertent activation of the rescue hoist cable cutter and consequent detachment of an external load or person from the helicopter hoist. This condition could result in personal injury or injury to persons on the ground.

(f) Compliance

Comply with this AD within the compliance times specified, unless already done.

(g) Requirements

(1) For helicopters with DUNLOP cyclic stick grip manufacturer part number AC66444 with UP/DOWN switches for rescue hoist control installed, before each hoist operation after December 16, 2020 (the effective date of AD 2020-24-03), accomplish a ground test of the UP/DOWN switches for proper function. If there is any uncommanded hoist action, before further flight, remove the DUNLOP cyclic stick grip from service. Accomplishing the modification in paragraph (2) of EASA AD 2021-0023 constitutes terminating action for the requirements of this paragraph.

(2) Except as specified in paragraph (h) of this AD: Comply with all required actions and compliance times specified in, and in accordance with, EASA AD 2021-0023.

(h) Exceptions to EASA AD 2021-0023

(1) Where EASA AD 2021-0023 refers to October 8, 2020 (the effective date of EASA Emergency AD 2020-0217-E, dated October 6, 2020 (EASA AD 2020-0217-E)), this AD requires using the effective date of this AD.

(2) Where the service information referenced in paragraph (1) of EASA AD 2020-0023 specifies that the “work must be performed on the helicopter by the operator,” this AD requires that the work be accomplished by a mechanic that meets the requirements of 14 CFR part 65 subpart D.

(3) Where EASA AD 2021-0023 refers to its effective date, this AD requires using the effective date of this AD.

(4) Where EASA AD 2021-0023 refers to flight hours (FH), this AD requires using hours time-in-service.

(5) Where the service information referenced in EASA AD 2021-0023 specifies to discard certain placards and Flight Manual pages (that were required by EASA AD 2020-0217-E), this AD requires removing them.

(6) Where paragraph (3) of EASA AD 2021-0023 specifies to “inform all flight crews and, thereafter, operate the helicopter accordingly,” this AD does not require those actions.

(7) Where paragraph (4) of EASA AD 2020-0023 allows modifying a Group 2 helicopter into a Group 1 helicopter, this AD also requires accomplishing the requirements of paragraph (g)(1) of this AD.

(8) The “Remarks” section of EASA AD 2021-0023 does not apply to this AD.

(i) No Reporting Requirement

Where the service information referenced in EASA AD 2021-0023 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(2) of this AD. Information may be emailed to: 9-ANM-LAACO-AMOC-REQUESTS@faa.gov.

(2) Before using any approved AMOC, notify your appropriate principal inspector, or lacking a principal inspector, the manager of the local flight standards district office/certificate holding district office.

(k) Related Information

(1) For EASA AD 2021-0023, contact the EASA, Konrad-Adenauer-Ufer 3, 50668 Cologne, Germany; telephone +49 221 8999 000; email ADs@easa.europa.eu; internet www.easa.europa.eu. You may find this EASA AD on the EASA website at https://ad.easa.europa.eu. For Airbus Helicopter service information identified in this AD, Airbus Helicopters, 2701 N. Forum Drive, Grand Prairie, TX 75052; telephone (972) 641-0000 or (800) 232-0323; fax (972) 641-3775; or at https://www.airbus.com/helicopters/services/technical-support.html. You may view this material at the FAA, Office of the Regional Counsel, Southwest Region, 10101 Hillwood Pkwy., Room 6N-321, Fort Worth, TX 76177. For information on the availability of this material at the FAA, call (817) 222-5110. The EASA material may be found in the AD docket on the internet at https://www.regulations.gov by searching for and locating Docket No. FAA-2021-0559.

(2) For more information about this AD, contact Daniel Poblete, Aerospace Engineer, Systems & Equipment Section, Los Angeles ACO Branch, Compliance & Airworthiness Division, 3960 Paramount Blvd., Lakewood, CA 90712; telephone (562) 627-5335; email daniel.d.poblete@faa.gov.

Issued on July 2, 2021.
Gaetano A. Sciortino,
Deputy Director for Strategic Initiatives, Compliance & Airworthiness Division, Aircraft Certification Service.

[FR Doc. 2021-14692 Filed 7-9-21; 8:45 am]

BILLING CODE 4910-13-P